SECURITIES AND EXCHANGE COMMISSION

Submission for OMB Review; Comment Request

Upon Written Request, Copies Available From: Securities and Exchange Commission, Office of FOIA Services, 100 F Street NE, Washington, DC 20549-2736

Extension:

Rule 6a-4, Form 1-N, SEC File No. 270-496, OMB Control No. 3235-0554

Notice is hereby given that pursuant to the Paperwork Reduction Act of 1995 (“PRA”) (44 U.S.C. 3501 et seq.), the Securities and Exchange Commission (“Commission”) has submitted to the Office of Management and Budget (“OMB”) a request for extension of the previously approved collection of information provided for in Rule 6a-4 and Form 1-N (17 CFR 240.6a-4 and 17 CFR 249.10) under the Securities Exchange Act of 1934 (15 U.S.C. 78a et seq.) (“Exchange Act”).

Section 6 of the Exchange Act ¹ sets out a framework for the registration and regulation of national securities exchanges. Under the Commodity Futures Modernization Act of 2000, a futures market may trade security futures products by registering as a national securities exchange. Rule 6a-4 ² sets forth these registration procedures and directs futures markets to submit a notice registration on Form 1-N.³ Form 1-N calls for information regarding how the futures market operates, its rules and procedures, corporate governance, its criteria for membership, its subsidiaries and affiliates, and the security futures products it intends to trade. Rule 6a-4 also requires entities that have submitted an initial Form 1-N to file: (1) Amendments to Form 1-N in the event of material changes to the information provided in the initial Form 1-N; (2) periodic updates of certain information provided in the initial Form 1-N; (3) certain information that is provided to the futures market's members; and (4) a monthly report summarizing the futures market's trading of security futures products. The information required to be filed with the Commission pursuant to Rule 6a-4 is designed to enable the Commission to carry out its statutorily mandated oversight functions and to ensure that registered and exempt exchanges continue to be in compliance with the Act.

¹ 15 U.S.C. 78f.

² 17 CFR 240.6a-4.

³ 17 CFR 249.10.

The respondents to the collection of information are futures markets.

The Commission estimates that the total annual burden of compliance with the requirements of Rule 6a-4 and Form 1-N is 171 hours per year and $1,216 per year, calculated as detailed below. The Commission estimates that the total annual burden for all respondents to provide periodic amendments ⁴ to keep the Form 1-N accurate and up to date as required under Rule 6a-4(b)(1) would be 60 hours (15 hours/respondent per year × 4 respondents ⁵ to provide annual amendments under Rule 6a-4(b)(3) would be 60 hours (15 hours/respondent/year × 4 respondents) and $400 of miscellaneous clerical expenses. The Commission estimates that the total annual burden for all respondents to provide three-year amendments ⁶ under Rule 6a-4(b)(4) would be 27 hours (20 hours/respondent × 1.33 respondents per year) and $176 ($44 per year × 4 respondents ⁷) in miscellaneous clerical expenses. The Commission estimates that the total annual burden for the filing of the supplemental information ⁸ and the monthly reports required under Rule 6a-4(c) would be 24 hours (6 hours/respondent per year × 4 respondents ⁹) and $240 of miscellaneous clerical expenses.

⁴ 17 CFR 240.6a-4(b)(1).

⁵ The Commission estimates that four exchanges will file amendments with the Commission in order to keep their Form 1-N current.

⁶ 17 CFR 240.6a-4(b)(3) and (4).

⁷ The Commission notes that while there are currently five Security Futures Product Exchanges, one of those exchanges, NQLX, is dormant.

⁸ 17 CFR 240.6a-4(c)

⁹ See supra footnote 7.

Compliance with Rule 6a-4 is mandatory. Information received in response to Rule 6a-4 shall not be kept confidential; the information collected is public information.

An agency may not conduct or sponsor, and a person is not required to respond to, a collection of information under the PRA unless it displays a currently valid OMB control number.

The public may view background documentation for this information collection at the following website, www.reginfo.gov. Comments should be directed to: (i) Desk Officer for the Securities and Exchange Commission, Office of Information and Regulatory Affairs, Office of Management and Budget, Room 10102, New Executive Office Building, Washington, DC 20503, or by sending an email to: Lindsay.M.Abate@omb.eop.gov; and (ii) Charles Riddle, Acting Director/Chief Information Officer, Securities and Exchange Commission, c/o Candace Kenner, 100 F Street NE, Washington, DC 20549 or by sending an email to: PRA_Mailbox@sec.gov. Comments must be submitted to OMB within 30 days of this notice.

Dated: November 14, 2019.
Jill M. Peterson,
Assistant Secretary.

[FR Doc. 2019-25096 Filed 11-19-19; 8:45 am]

BILLING CODE 8011-01-P